Title 3—

The President

Executive Order 14069 of March 15, 2022

Advancing Economy, Efficiency, and Effectiveness in Federal Contracting by Promoting Pay Equity and Transparency

By the authority vested in me as President by the Constitution and the laws of the United States of America, it is hereby ordered as follows:

Section 1. Policy. It is the policy of my Administration to eliminate discriminatory pay practices that inhibit the economy, efficiency, and effectiveness of the Federal workforce and the procurement of property and services by the Federal Government. The Office of Personnel Management anticipates issuing a proposed rule that will address the use of salary history in the hiring and pay-setting processes for Federal employees, consistent with Executive Order 14035 of June 25, 2021 (Diversity, Equity, Inclusion, and Accessibility in the Federal Workforce). The purpose of this order is to direct the consideration of parallel efforts with respect to Federal procurement.

Sec. 2. Economy, Efficiency, and Effectiveness in Federal Procurement. Consistent with applicable law and subject to the availability of appropriations, the Federal Acquisition Regulatory Council, in consultation with the Secretary of Labor and the heads of other executive departments and agencies as appropriate, shall consider issuing proposed rules to promote economy, efficiency, and effectiveness in Federal procurement by enhancing pay equity and transparency for job applicants and employees of Federal contractors and subcontractors. In doing so, the Federal Acquisition Regulatory Council shall specifically consider whether any such rules should limit or prohibit Federal contractors and subcontractors from seeking and considering information about job applicants' and employees' existing or past compensation when making employment decisions. The Federal Acquisition Regulatory Council shall also consider the inclusion of appropriate accountability measures in any such rules.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 15, 2022.

[FR Doc. 2022-05949

Filed 3-17-22; 8:45 am]

Billing code 3395-F2-P